DEPARTMENT OF HOUSING AND URBAN DEVELOPMENT

[Docket No. FR-5687-N-51]

10-Day Notice of Proposed Information Collection: Section 242 Hospital Mortgage Insurance Program

AGENCY: Office of the Assistant Secretary for Housing—Federal Housing Commissioner, HUD.

ACTION: Announcement Notice.

SUMMARY: HUD is seeking approval from the Office of Management and Budget (OMB) for the information collection described below. In accordance with the Paperwork Reduction Act, HUD is requesting comment from all interested parties on the proposed collection of information. The purpose of this notice is to allow for 10 days of public comment.

DATES: Comments Due Date: January 21, 2014.

ADDRESSES: Interested persons are invited to submit comments regarding this proposal. Comments should refer to the proposal by name and/or OMB Control Number and should be sent to: Paul Giaudrone, Underwriting Director, Office of Hospital Facilities, Department of Housing and Urban Development, 451 7th Street SW., Room 4176, Washington, DC 20410-5000; telephone 202-402-5684 (this is not a toll-free number) or email at Paul.A.Giaudrone@hud.gov for a copy of the proposed forms or other available information. Persons with hearing or speech impairments may access this number through TTY by calling the toll-free Federal Relay Service at (800) 877-8339.

FOR FURTHER INFORMATION CONTACT: Paul Giaudrone, Underwriting Director, Office of Hospital Facilities, Department of Housing and Urban Development, 451 7th Street SW., Washington, DC 20410; email at Paul.A.Giaudrone@hud.gov or telephone 202-402-5684. This is not a toll-free number. Persons with hearing or speech impairments may access this number through TTY by calling the toll-free Federal Relay Service at (800) 877-8339. Copies of available documents submitted to OMB may be obtained from Mr. Giaudrone.

SUPPLEMENTARY INFORMATION: This notice informs the public that HUD is seeking approval from OMB for the information collection described in Section A.

A. Overview of Information Collection

Title of Information Collection: Pre-Screen for Hospital Mortgage Insurance.

OMB Approval Number: 2502-0602.

Type of Request: Change Request.

Form Number: N/A.

Description of the need for the information and proposed use: HUD is developing a new web-based “Pre-Screening Tool” to replace the Section 242 Hospital Mortgage Insurance Program's existing Preliminary Review process. The Preliminary Review process evaluates hospitals against Statutory, Regulatory, and credit benchmarks, and occurs before an application is delivered to HUD.

Respondents (i.e. affected public): 465.

Estimated Number of Respondents: 80.

Estimated Number of Responses: 1.

Frequency of Response: on occasion.

Average Hours per Response: 2 hours.

Total Estimated Burdens: 98,811.50.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: January 2, 2014.
Laura M. Marin,
Associate General Deputy Assistant Secretary for Housing—Associate Deputy Federal Housing Commissioner.

[FR Doc. 2014-00144 Filed 1-8-14; 8:45 am]

BILLING CODE 4210-67-P